Title 3—

The President

Proclamation 10513 of January 13, 2023

Martin Luther King, Jr., Federal Holiday, 2023

By the President of the United States of America

A Proclamation

Today, we honor the Reverend Dr. Martin Luther King, Jr., by continuing his unfinished work to redeem the soul of America.

Dr. King came of age in the South during a time when racial discrimination was the law of the land. Black Americans risked jail time for accessing public accommodations like drinking fountains, parks, restrooms, restaurants, and hotels. Their voting rights were denied by complicated, onerous, and discriminatory rules. Even if they attempted to register to vote, they could be fired from their jobs, be run off of their farms, or face vigilante violence.

Dr. King imagined a different future for America—an America he called the “Beloved Community.” Building the Beloved Community required a key shift in human understanding. It meant looking beyond external differences to see the union of all humankind. It also meant finding a way to deal with our grievances without animosity, in a way that recognized the interconnectedness of all humanity and allowed us to move forward together.

From the pulpit to the podium to the streets, Dr. King devoted his life to the quest for this Beloved Community in our Nation. His activism and moral authority helped usher in the Civil Rights Act of 1964 and the Voting Rights Act of 1965. He gave a voice to the restless spirit of millions yearning for change. He gave us a roadmap to unify, to heal, and to sustain the blessings of the Nation to all of its people.

But the work continues because it remains unfinished. That is why my Administration has called on the Congress to pass the John Lewis Voting Rights Advancement Act and the Freedom to Vote Act to ensure that every citizen has a voice in deciding our future.

In keeping with Dr. King's campaign for economic justice and the rights of workers, my Administration is striving to make the American Dream a reality for every family. By creating good-paying jobs, investing in the middle class, improving access to affordable housing and quality education, and closing the racial and gender wealth gaps, we can give hardworking families the dignity Dr. King would say they deserve.

Dr. King called for greater fairness in our health care system, and my Administration is pushing to put quality, affordable health care within reach of all people—especially the most vulnerable and marginalized Americans. By lowering costs and improving access, we can make health care a right and not just a privilege.

Dr. King preached that “darkness cannot drive out darkness, only light can do that.” In his memory, we strive to challenge violence and bigotry with grace and goodness. We work to embed equity and opportunity into all of the Federal Government's policies and programs. And we serve to bring together a Nation in our dedication to these ideals.

This Sunday, I will pay my respects and express my gratitude for his life and legacy by speaking at services at his cherished Ebenezer Baptist Church. On this day of commemoration, service, and action, let us hold up a mirror to America and ask ourselves: What kind of country do we want to be? Will we honor Dr. King's legacy by rising together—buttressed by each other's successes, enriched by each other's differences, and made whole by each other's compassion? I believe we can. It will require constant care for our democracy, stubborn faith in this great experiment, and a commitment to stamping out discrimination in all forms. It will demand honest reflection about how far we have come and how far we have yet to go to be the best version of ourselves. But like Dr. King, I know that there is nothing beyond this Nation's capacity and that we will fulfill the promise of America for all Americans—perfecting the Union we love and must protect.

NOW, THEREFORE, I, JOSEPH R. BIDEN JR., President of the United States of America, by virtue of the authority vested in me by the Constitution and the laws of the United States, do hereby proclaim Monday, January 16, 2023, as the Martin Luther King, Jr., Federal Holiday. I encourage all Americans to observe this day with appropriate civic, community, and service projects in honor of Dr. King and to visit MLKDay.gov to find Martin Luther King, Jr., Day of Service projects across our country.

IN WITNESS WHEREOF, I have hereunto set my hand this thirteenth day of January, in the year of our Lord two thousand twenty-three, and of the Independence of the United States of America the two hundred and forty-seventh.

[FR Doc. 2023-01095

Filed 1-18-23; 8:45 am]

Billing code 3395-F3-P